ENVIRONMENTAL PROTECTION AGENCY

[OPP-2003-0193; FRL-7310-3]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by December 16, 2003 or July 21, 2003 for EPA Registration number(s): 000499-00413, 008660-00031, 008660-00045, 008660-49, 008660-00055, 008660-00057, and 071085-00022, orders will be issued canceling these registrations. The Agency will consider withdrawal requests postmarked no later than December 16, 2003 or July 21, 2003 for EPA Registration numbers indicated above.

FOR FURTHER INFORMATION CONTACT: By mail: James A. Hollins, Information Resources Services Division (7502C), Office of Pesticide Programs, Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0193. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 45 pesticide products registered under section 3 or 24(c) of FIFRA. These registrations are listed in sequence by registration number (or company number and 24(c) number) in the following Table 1:

Table 1.—Registrations With Pending Requests for Cancellation
Registration No. | Product Name | Chemical Name
000056-00071 | Jt Eaton A-C Formula 90 Bulk Rodenticide | 2-((p-Chlorophenyl)phenylacetyl)-1,3-indandione
000228 OR-94-0036 | Riverdale Weedestroy (R) AM 40 Amine Salt | Dimethylamine 2,4-dichlorophenoxyacetate
000241 OR-02-0021 | Acrobat 50WP Fungicide | Morpholine, 3-(3-(4-chlorophenyl)-3-(3,4-dimethoxyphenyl)-1-oxo-2-propenyl)
000264 OR-96-0028 | Aliette WDG Fungicide | Aluminum tris(O-ethylphosphonate)
000432-01285 | Baytex Liquid Concentrate Insecticide | O,O-Dimethyl O-(4-(methylthio)-m-tolyl) phosphorothioate
000432-01290 | Baytex Technical Insecticide | O,O-Dimethyl O-(4-(methylthio)-m-tolyl) phosphorothioate
000464-00669 | Bronopol Preservative | 2-Bromo-2-nitropropane-1,3-diol
000464-00677 | Myacide S-1 | 2-Bromo-2-nitropropane-1,3-diol
000464-00681 | Myacide BT | 2-Bromo-2-nitropropane-1,3-diol
000499-00413 | Whitmire TC 100 Intern | O,O-Diethyl O-(3,5,6-trichloro-2-pyridyl) phosphorothioate
000829-00290 | SA-50 Dursban 1-E Insecticide | O,O-Diethyl O-(3,5,6-trichloro-2-pyridyl) phosphorothioate
001022-00543 | Chapcide 4-EC | O,O-Diethyl O-(3,5,6-trichloro-2-pyridyl) phosphorothioate
001812 LA-01-0014 001812 MS-01-0028 001812 SC-01-0002 | Griffin Boa Herbicide | 1,1'-Dimethyl-4,4'-bipyridinium dichloride
004822-00148 | Johnson Yard Master Foam Crabgrass Preventer | N-Butyl-N-ethyl-α,α,α-trifluoro-2,6-dinitro-p-toluidine
004822-00153 | Johnson Buggy Whip Dual Action Roach Bait | O,O-Diethyl O-(3,5,6-trichloro-2-pyridyl) phosphorothioate
004822-00335 | Raid Ant Controller | O,O-Diethyl O-(3,5,6-trichloro-2-pyridyl) phosphorothioate
004822-00411 | Raid Roach Bait III | O,O-Diethyl O-(3,5,6-trichloro-2-pyridyl) phosphorothioate
005481 WA-93-0024 | Metam Sodium | Sodium N-methyldithiocarbamate
008660-00031 | Concentrated Balan for Professional Turf | N-Butyl-N-ethyl-α,α,α-trifluoro-2,6-dinitro-p-toluidine
008660-00045 | Malathion Grain Protectant (Premium Grade) | O,O-Dimethyl phosphorodithioate of diethyl mercaptosuccinate
008660-00049 | 55% Malathion Concentrate | O,O-Dimethyl phosphorodithioate of diethyl mercaptosuccinate
008660-00055 | Malathion Grain Protectant | O,O-Dimethyl phosphorodithioate of diethyl mercaptosuccinate
008660-00057 | Patterson's Greenup 5% Malathion Dust | O,O-Dimethyl phosphorodithioate of diethyl mercaptosuccinate
010163 MO-01-0004 010163 OR-01-0008 010163 TX-01-0010 | Sandea Herbicide | 3-Chloro-5-(((((4,6-dimethoxy-2-pyrimidinyl)amino)carbonyl)amino)
010182 TX-99-0007 | Bravo 720 | Tetrachloroisophthalonitrile
010707 AZ-98-0008 | Magnacide H Herbicide | 2-Propenal
015440-00012 | Technical 2-(2,4-Dichlorophenoxy) Propionic Acid | 2-(2,4-Dichlorophenoxy)propionic acid
015440-00014 | Marks CMPP (Mecoprop) Technical Acid | 2-(2-Methyl-4-chlorophenoxy)propionic acid
015440-00017 | Technical Mecoprop | 2-(2-Methyl-4-chlorophenoxy)propionic acid
028293-00015 | Unicorn Phosmet Insecticidal Dust for Dogs | N-(Mercaptomethyl)phthalimide S-(O,O-dimethyl phosphorodithioate)
051036-00073 | Dibrom 8EC | 1,2-Dibromo-2,2-dichloroethyl dimethyl phosphate
051036-00216 | Micro Flo Chlorpyrifos 4E Wood Treater | O,O-Diethyl O-(3,5,6-trichloro-2-pyridyl) phosphorothioate
051036-00247 | Chlorpyrifos 2.5G | O,O-Diethyl O-(3,5,6-trichloro-2-pyridyl) phosphorothioate
051036-00257 | Chlorpyrifos 2E AG | O,O-Diethyl O-(3,5,6-trichloro-2-pyridyl) phosphorothioate
051036-00294 | Chlorpyrifos 4# Wheat | O,O-Diethyl O-(3,5,6-trichloro-2-pyridyl) phosphorothioate
053871-00006 | Larvo-BT | Bacillus thuringiensis subsp. kurstaki
053883-00048 | Martin's Dursban Insecticide Granules | O,O-Diethyl O-(3,5,6-trichloro-2-pyridyl) phosphorothioate
053883-00052 | Martin's Dursban 2 1/2% Insecticide Granules | O,O-Diethyl O-(3,5,6-trichloro-2-pyridyl) phosphorothioate
064428 WA-90-0024 065135 WA-98-0007 | Vinco Formaldehyde Solution | Formaldehyde
071085-00022 | Griffin Propanil 60 DF | 3',4'-Dichloropropionanilide

Unless a request is withdrawn by the registrant within 180 days (30 days where indicated) of publication of this notice, orders will be issued canceling all of these registrations. Users of these pesticides or anyone else desiring the retention of a registration should contact the applicable registrant directly during the indicated comment period.

Table 2 of this unit includes the names and addresses of record for all registrants of the products in Table 1 of this unit, in sequence by EPA company number:

Table 2.—Registrants Requesting Voluntary Cancellation
EPA Company No. | Company Name and Address
000056 | Eaton JT and Co. Inc. 1393 E. Highland Rd. Twinsburg, OH 44087
000228 | Nufarm Americas Inc. D/b/a Riverdale - A Nufarm Co. 1333 Burr Ridge Parkway Suite 125a Burr Ridge, IL 60527
000241 | BASF Corp. P.O. Box 13528 Research Triangle Park, NC 27709
000264 | Bayer Cropscience LP 2 T.W. Alexander Drive Research Triangle Park, NC 27709
000432 | Bayer Environmental Science, A Business Group of Bayer Cropscience LP 95 Chestnut Ridge Rd. Montvale, NJ 07645
000464 | Dow Chemical Co. 1803 Building Midland, MI 48674 Attn: Rhonda Vance-Moeser
000499 | Whitmire Micro-Gen Research Laboratories Inc. 3568 Tree Ct Industrial Blvd. St Louis, MO 63122
000829 | Southern Agricultural Insecticides, Inc. P.O. Box 218 Palmetto, FL 34220
001022 | IBC Mfg. Co. c/o Gail Early 416 E. Brooks Rd. Memphis, TN 38109
001812 | Griffin L.L.C. P.O. Box 1847 Valdosta, GA 31603
004822 | S.C. Johnson and Son Inc. 1525 Howe Street Racine, WI 53403
005481 | AMVAC Chemical Corp. 4695 Macarthur Ct. Suite 1250 Newport Beach, CA 92660 Attn: Jon C. Wood
008660 | Sylorr Plant Corp. P.O. Box 142642 St. Louis, MO 63114
010163 | Gowan Co. P.O. Box 5569 Yuma, AZ 85366
010182 | Zeneca Ag Products, Inc. P.O. Box 18300 Greensboro, NC 27419
010707 | Baker Petrolite Corp. 12645 W. Airport Blvd. Sugarland, TX 77478
015440 | Registration and Regulatory Services Agent For: A H Marks and Co Ltd., PMB 239 7474 Creedmoor Rd. Raleigh, NC 27613
028293 | Unicorn Laboratories 12385 Automobile Blvd. Clearwater, FL 33762
051036 | Micro-Flo Co. LLC P.O. Box 772099 Memphis, TN 38117
053871 | Troy Biosciences Inc. c/o SHB Scientific Enterprises P.O. Box 7012 Chandler, AZ 85246
053883 | Control Solutions, Inc. 5903 Genoa-Red Bluff Pasadena, TX 77507
064428 | Washington Bulb Co. Inc. 16031 Beaver Marsh Rd. Mount Vernon, WA 98273
065135 | Lefeber Bulb Co. Inc. 15379 State Route 536 Mount Vernon, WA 98273
071085 | Riceco LLC 5100 Poplar Avenue Suite 2428 Memphis, TN 38137

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before December 16, 2003 or July 21, 2003 for EPA Registration numbers listed under DATES. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: June 3, 2003.
Arnold E. Layne,
Director, Information Resources Services Division, Office of Pesticide Programs.

[FR Doc. 03-15517 Filed 6-18-03; 8:45 am]

BILLING CODE 6560-50-S